DEPARTMENT OF ENERGY

Federal Energy Regulatory Commission

Combined Notice of Filings # 1

January 15, 2009.

Take notice that the Commission received the following electric corporate filings:

Docket Numbers: EC09-47-000.

Applicants: Longview Power.

Description: Joint Application for Approval under Section 203 of the FPA and Requests for Expedited Review and Confidential Treatment.

Filed Date: 01/09/2009.

Accession Number: 20090109-5053.

Comment Date: 5 p.m. Eastern Time on Friday, January 30, 2009.

Take notice that the Commission received the following electric rate filings:

Docket Numbers: ER01-3001-022; ER03-647-013.

Applicants: New York Independent System Operator, Inc.

Description: Compliance Filing of New York Independent System Operator, Inc.

Filed Date: 01/15/2009.

Accession Number: 20090115-5038.

Comment Date: 5 p.m. Eastern Time on Thursday, February 5, 2009.

Docket Numbers: ER07-188-005.

Applicants: Duke Energy Carolinas, LLC.

Description: Duke Energy Carolinas, LLC submits additional information pertaining to the Simultaneous Import Limitation study, in response to FERC's 12/23/08 request.

Filed Date: 01/13/2009.

Accession Number: 20090115-0079.

Comment Date: 5 p.m. Eastern Time on Tuesday, February 3, 2009.

Docket Numbers: ER09-90-001.

Applicants: Southwest Power Pool, Inc.

Description: Southwest Power Pool, Inc submits revised pages to its Open Access Transmission Tariff, pursuant to Commission's 12/16/08 Order.

Filed Date: 01/13/2009.

Accession Number: 20090114-0184.

Comment Date: 5 p.m. Eastern Time on Tuesday, February 3, 2009.

Docket Numbers: ER09-249-000 Applicants: Public Service Electric and Gas Company.

Description: Public Service Electric and Gas Company submits response to the Commission Staff's request for additional information dated 1/2/08.

Filed Date: 01/12/2009.

Accession Number: 20090113-0354.

Comment Date: 5 p.m. Eastern Time on Monday, February 2, 2009.

Docket Numbers: ER09-354-001.

Applicants: CAM Energy Trading LLC.

Description: CAM Energy Trading, LLC submits correction to Notice of Cancellation of market based rate tariff for CET, revised tariff sheet under ER09-354.

Filed Date: 01/09/2009.

Accession Number: 20090112-0176.

Comment Date: 5 p.m. Eastern Time on Friday, January 23, 2009.

Docket Numbers: ER09-370-001.

Applicants: EPCOR USA North Carolina LLC.

Description: EPCOR USA North Carolina, LLC submits supplements to its Notice of Name Change and Succession filed on 12/1/08.

Filed Date: 01/13/2009.

Accession Number: 20090114-0185.

Comment Date: 5 p.m. Eastern Time on Tuesday, February 3, 2009.

Docket Numbers: ER09-474-002.

Applicants: PowerSmith Cogeneration Project Limited.

Description: PowerSmith Cogeneration Project, Limited Partnership submits Substitute Original Sheet 1 and 2 to FERC Electric Tariff, Original Volume 1.

Filed Date: 01/13/2009.

Accession Number: 20090114-0186.

Comment Date: 5 p.m. Eastern Time on Tuesday, February 3, 2009.

Docket Numbers: ER09-535-000.

Applicants: Commonwealth Edison Company and Commonwealth.

Description: Commonwealth Edison Company of Indiana, Inc. submits revised Attachment H-13 (Network Integration Transmission Service for the ComEd Zone) of the PJM Interconnection, LLC Open Access Transmission Tariff.

Filed Date: 01/13/2009.

Accession Number: 20090114-0187.

Comment Date: 5 p.m. Eastern Time on Tuesday, February 3, 2009.

Docket Numbers: ER09-536-000.

Applicants: Osceola Windpower, LLC.

Description: Osceola Windpower, LLC submits Shared Facilities Agreement with Osceola Windpower II, LLC dated as of 9/30/08 designated as Rate Schedule FERC 1 pursuant to the requirements of Order 888 et al.

Filed Date: 01/13/2009.

Accession Number: 20090114-0188.

Comment Date: 5 p.m. Eastern Time on Tuesday, February 3, 2009.

Take notice that the Commission received the following open access transmission tariff filings:

Docket Numbers: OA08-67-004.

Applicants: Progress Energy, Inc.

Description: Progress Energy, Inc. submits Amendment to Order 890-A Compliance Filing.

Filed Date: 01/08/2009.

Accession Number: 20090108-5084.

Comment Date: 5 p.m. Eastern Time on Thursday, January 29, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-1475 Filed 1-23-09; 8:45 am]

BILLING CODE 6717-01-P